EXPORT-IMPORT BANK OF THE UNITED STATES

[Public Notice: 2013-3007]

Agency Information Collection Activities: Comment Request

AGENCY: Export-Import Bank of the United States.

ACTION: Submission for OMB review and comments request.

Form Title: EIB 10-02 Application for Short-Term Express Credit Insurance Policy.

SUMMARY: The Export-Import Banks of the United States (Ex-Im Bank), as part of its continuing effort to reduce paperwork and respondent burden, invites the general public and other Federal Agencies to comment on the proposed information collection, as required by the Paperwork Reduction Act of 1995.

This collection of information is necessary, pursuant to 12 U.S.C. 635(a)(1), to determine eligibility of the applicant for Ex-Im Bank assistance.

The application tool can be reviewed at: http://exim.gov/pub/pending/eib10_02.pdf.

DATES: Comments must be received on or before January 21, 2014 to be assured of consideration.

ADDRESSES: Comments may be submitted electronically on www.regulations.gov (EIB-2013-0048) or by mail to Office of Information and Regulatory Affairs, 725 17th Street NW. Washington, DC 20038 Attn: OMB 3048-EIB10-02.

SUPPLEMENTARY INFORMATION: Title and Form Number: EIB 10-02 Application for Short-Term Express Credit Insurance Policy.

OMB Number: 3048-0031.

Type of Review: Regular.

Need and Use: This form is used by an exporter (or broker acting on its behalf) in order to obtain approval for coverage of the repayment risk of export sales. The information received allows Ex-Im Bank staff to make a determination of the eligibility of the applicant and the creditworthiness of one of the applicant's foreign buyers for Ex-Im Bank assistance under its programs.

This is the application form for use by small U.S. businesses with limited export experience. Companies that are eligible to use the Express policy will need to answer approximately 20 questions and sign an acknowledgement of the certifications that appear on the reverse of the application form. This program does not provide discretionary credit authority to the U.S. exporter, and therefore the financial and credit information needs are minimized.

This revised form requests additional information about sales by affiliates, U.S. content of the product, and foreign buyers. By requesting this information in the application form, Ex-Im Bank will no longer need to separately request additional information from the applicant in order to process the application.

Affected Public: This form affects entities involved in the export of U.S. goods and services.

Annual Number of Respondents: 500.

Estimated Time per Respondent: 0.25 hours.

Annual Burden Hours: 125 hours.

Frequency of Reporting of Use: Once per year.

Government Expenses:

Reviewing time per year: 1,000 hours.

Average Wages per Hour: $42.50.

Average Cost per Year (time*wages): $42,250.

Benefits and Overhead: 20%.

Total Government Cost: $51,000.

Kalesha Malloy,
Agency Clearance Officer, Office of the Chief Information Officer.

[FR Doc. 2013-30233 Filed 12-19-13; 8:45 am]

BILLING CODE 6690-01-P